FEDERAL DEPOSIT INSURANCE CORPORATION

[OMB No. 3064-0103]

Agency Information Collection Activities: Proposed Collection Renewal; Comment Request

AGENCY: Federal Deposit Insurance Corporation (FDIC).

ACTION: Notice and request for comment.

SUMMARY: The FDIC, as part of its obligations under the Paperwork Reduction Act of 1995 (PRA), invites the general public and other Federal agencies to take this opportunity to comment on the renewal of the existing information collections described below (OMB Control No. 3064-0103).

DATES: Comments must be submitted on or before May 20, 2024.

ADDRESSES: Interested parties are invited to submit written comments to the FDIC by any of the following methods:

• Agency Website: https://www.fdic.gov/resources/regulations/federal-register-publications/.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street NW building (located on F Street NW), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION:

Proposal To Renew the Following Currently Approved Collection of Information

1. Title: Recordkeeping Requirements Associated with Real Estate Appraisals and Evaluations.

OMB Number: 3064-0103.

Forms: None.

Affected Public: Insured State Nonmember Banks and State Savings Associations.

Burden Estimate:

Summary of Estimated Annual Burdens
[OMB No. 3064-0103]
IC description | Type of burden (obligation to respond) | Frequency of response | Number of respondents | Number of responses per respondent | Time per response (hours) | Annual burden (hours)
Recordkeeping Requirements Associated with Real Estate Appraisals and Evaluations (12 CFR 323) | Recordkeeping (Mandatory) | On occasion | 3,038 | 250 | 0.083 | 63,039
Total Annual Burden Hours |  |  |  |  |  | 63,039
Source: FDIC.

General Description of Collection: FIRREA directs the FDIC to prescribe appropriate performance standards for real estate appraisals connected with federally related transactions under its jurisdiction. This information collection is a direct consequence of the statutory requirement. It is designed to provide protection for federal financial and public policy interests by requiring real estate appraisals used in connection with federally related transactions to be performed in writing, in accordance with uniform standards, by an appraiser whose competency has been demonstrated and whose professional conduct will be subject to effective supervision. There is no change in the methodology or substance of this information collection. The increase in estimated annual burden (from 227 hours in 2021 to 250 hours currently) is due to the increase in the estimated number of responses.

Request for Comment

Comments are invited on: (a) Whether the collections of information are necessary for the proper performance of the FDIC's functions, including whether the information has practical utility; (b) the accuracy of the estimates of the burden of the information collections, including the validity of the methodology and assumptions used; (c) ways to enhance the quality, utility, and clarity of the information to be collected; and (d) ways to minimize the burden of the collections of information on respondents, including through the use of automated collection techniques or other forms of information technology. All comments will become a matter of public record.

Federal Deposit Insurance Corporation.
Dated at Washington, DC, March 15, 2024.
James P. Sheesley,
Assistant Executive Secretary.

[FR Doc. 2024-05900 Filed 3-19-24; 8:45 am]

BILLING CODE 6714-01-P